DEPARTMENT OF TRANSPORTATION

Federal Aviation Administration

Notice of Intent of Waiver With Respect to Land

AGENCY: Federal Aviation Administration (FAA), DOT.

ACTION: Notice.

SUMMARY: The FAA is considering a proposal to change a 29.429-acre portion of airport land from aeronautical use to non-aeronautical use and to authorize the sale of airport property located at Aurora Municipal Airport, Sugar Grove, IL.

The subject portion of airport property considered for release from obligation to be maintained for aeronautical use and sale includes a 26.67-acre portion of Parcel 33, a 0.69-acre portion of Parcel 10, and a 2.069-acre portion of Parcel 11 that are located in the northwest quadrant of the airport along Wheeler Road and currently not being used directly for aeronautical purposes. Currently, ownership of the property provides for protection of FAR Part 77 surfaces and compatible land use which would continue to be protected with deed restrictions required in the transfer of land ownership. The change from aeronautical to non-aeronautical use would allow for the more efficient use of existing airport property. The aforementioned land is not needed for aeronautical use.

DATES: Comments must be received on or before December 18, 2017.

ADDRESSES: Documents are available for review by prior appointment at the FAA Airports District Office, Mr. Richard Pur, Airports Engineer, Federal Aviation Administration, Chicago Airports District Office, 2300 East Devon Avenue, Des Plaines, IL 60018. Telephone: (847) 294-7527/Fax: (847) 294-7046, and Aurora Municipal Airport, 43 W 636 US 30, Sugar Grove, IL 60554. Telephone: (630) 466-7000/Fax: (630) 466-1166.

Written comments on the Sponsor's request must be delivered or mailed to: Mr. Richard Pur, Airports Engineer, Federal Aviation Administration, Chicago Airports District Office, 2300 East Devon Avenue, Des Plaines, IL 60018. Telephone: (847) 294-7527/Fax: (847) 294-7046.

FOR FURTHER INFORMATION CONTACT: Mr. Richard Pur, Airports Engineer, Federal Aviation Administration, Chicago Airports District Office, 2300 East Devon Avenue, Des Plaines, IL 60018. Telephone: (847) 294-7527/Fax: (847) 294-7046.

SUPPLEMENTARY INFORMATION: In accordance with section 47107(h) of Title 49, United States Code, this notice is required to be published in the Federal Register 30 days before modifying the land-use assurance that requires the property to be used for an aeronautical purpose.

The acquisition of Parcel 33 (102.77 acres) was originally funded under Federal AIP Grant 3-17-0003-B7 in 1992, with the original Parcel 10 (120.00 acres) acquisition funded under Federal AIP Grant 3-17-0003-B10 in 1999, and the original Parcel 11 (40.00 acres) acquisition funded under Federal AIP Grant 3-17-0006-B10 in 1999. The subject portions of those parcels are currently used for FAR Part 77 protection and to ensure compatible land use. The City of Aurora plans to sell the subject property to the Village of Sugar Grove. Fair Market Value will be obtained from the sale of the subject property.

This notice announces that the FAA is considering the release of the subject airport property at Aurora Municipal Airport, Sugar Grove, IL, from Federal land covenants, subject to a reservation for continuing right of flight as well as restrictions on the released property as required in FAA Order 5190.6B Section 22.16. Approval does not constitute a commitment by the FAA to financially assist in the disposal of the subject airport property nor a determination of eligibility for grant-in-aid funding from the FAA. The use of the revenue generated from the sale of the airport property will be in accordance with FAA's Policy and Procedures concerning the Use of Airport Revenue, published in the Federal Register on February 16, 1999 (64 FR 7696).

Parcel 33-2—Subject Portion of Parcel 33 (Legal Description)

That part of the Southwest Fractional Quarter of Section 7, Township 38 North, Range 7 East of the Third Principal Meridian, Kane County, IL, more particularly described as follows.

Commencing at the northwest corner of the Southwest Fractional Quarter of Section 7, Township 38 North, Range 7 East of the Third Principal Meridian; thence North 89 degrees 35 minutes 16 seconds East along the north line of said Southwest Fractional Quarter, 286.50 feet to the Point of Beginning; thence continuing North 89 degrees 35 minutes 16 seconds East, 1383.22 feet to the northeast corner of said Southwest Fractional Quarter; thence South 00 degrees 35 minutes 03 seconds East along the east line of said Southwest Fractional Quarter, 1070.00 feet; thence South 89 degrees 35 minutes 16 seconds West, 712.41 feet; thence North 32 degrees 37 minutes 11 seconds West, 61.09 feet; thence northwesterly on a curve to the left having a radius of 494.40 feet, an arc length of 638.91 feet, the chord of said curve bears North 32 degrees 37 minutes 11 seconds West a distance of 595.37 feet; thence North 32 degrees 37 minutes 11 seconds West, 608.13 feet to the Point of Beginning, containing 26.67 acres, more or less.

Parcels 10-2 & 11-2—Subject Portion of Parcels 10 & 11 (Legal Description)

Part of the Northeast Quarter of Section 18, Township 38 North, Range 7 East of the Fourth Principal Meridian, Kane County, IL.

Commencing at the Northwest Corner of said Northeast Quarter of Section 18; thence North 89 degrees 34 minutes 19 seconds East along the North Line of said Northeast Quarter, a distance of 133.53 feet to the Point of Beginning; thence North 89 degrees 34 minutes 19 seconds East along said North Line, a distance of 868.30 feet; thence 75.00 feet along a curve concave to the Southeast, having a radius of 508.72 feet, a central angle of 8 degrees 26 minutes 50 seconds and the long chord of said bears South 63 degrees 42 minutes 36 seconds West, a chord distance of 74.93 feet; thence South 59 degrees 29 minutes 12 seconds West, a distance of 204.31 feet; thence South 30 degrees 30 minutes 48 seconds East, a distance of 1.00 foot; thence South 59 degrees 29 minutes 12 seconds West, a distance of 16.00 feet; thence North 30 degrees 30 minutes 48 seconds West, a distance of 1.00 foot; thence South 59 degrees 29 minutes 12 seconds West, a distance of 28.95 feet; thence 650.32 feet along a curve concave to the North, having a radius of 426.72 feet, a central angle of 87 degrees 19 minutes 08 seconds and the long chord of said curve bears North 76 degrees 51 minutes 15 seconds West, a chord distance of 589.19 feet; thence North 33 degrees 11 minutes 41 seconds West, a distance of 23.02 feet to the Point of Beginning, containing 2.759 acres, more or less.

Issued in Des Plaines, IL, on November 1, 2017.
Deb Bartell,
Manager, Chicago Airports District Office, FAA, Great Lakes Region.

[FR Doc. 2017-24867 Filed 11-15-17; 8:45 am]

BILLING CODE 4910-13-P